DEPARTMENT OF DEFENSE

Office of the Secretary

President's Information Technology Advisory Committee (PITAC)

AGENCY: Office of the Secretary, DoD.

ACTION: Notice of open meeting.

SUMMARY: The PITAC meeting will focus on the U.S. Government investment in networking and information technology research and development with special attention to three specific applications areas. The first half of the meeting will include a report by the PITAC Health and IT Subcommittee on the draft of its final report and a status report by the PITAC Cyber Security Subcommittee. The second half will include presentations that launch the PITAC Computational Science Subcommittee. A final agenda will be posted on the PITAC Web site (http://www.nitrd.gov/pitac/) approximately two weeks before the meeting.

DATES: June 17, 2004, 11 a.m. to 3 p.m.

ADDRESSES: Via WebEx and in Room 1235, National Science Foundation, 4201 Wilson Blvd., Arlington, VA 22230.

SUPPLEMENTARY INFORMATION: The public may attend the meeting on-line via the Internet or in person at the above address. To participate on-line, you must contact the National Coordination Office (NCO) for Information Technology Research and Development (ITRD) at the address below to register and receive instructions; registration prior to the meeting is required. Although no prior registration is needed to attend in person, it is highly recommended to speed your access to the NSF meeting room.

Members of the public are invited to participate by (1) submitting written statements do the PITAC at pitac-comments@nitrd.gov. and/or (2) giving a brief (three minutes or less) oral statement during the public comment periods identified on the meeting agenda.

FOR FURTHER INFORMATION CONTACT: Please contact the National Coordination Office at 703-292-4873 or pitac-comments@nitrd.gov.

Dated: May 11, 2004.
L.M. Bynum,
Alternate OSD Federal Register Liaison Officer, Department of Defense.

[FR Doc. 04-11045 Filed 5-14-04; 8:45 am]

BILLING CODE 5001-06-M